DEPARTMENT OF JUSTICE

Antitrust Division

Notice Pursuant to the National Cooperative Research and Production Act of 1993—International Pharmaceutical Aerosol Consortium for Toxicology Testing of HFA-227 (IPACT-II)

Notice is hereby given that, on March 15, 2000, pursuant to Section 6(a) of the National Cooperative Research and Production Act of 1993, 15 U.S.C. 4301 et seq. (“the Act”), International Pharmaceutical Aerosol Consortium for Toxicology Testing of HFA-227 (IPACT-II) has filed written notifications simultaneously with the Attorney General and the Federal Trade Commission disclosing changes in its membership status. The notifications were filed for the purpose of extending the Act's provisions limiting the recovery of antitrust plaintiffs to actual damages under specified circumstances. Specifically, Astra AB, a party to IPACT-II, changed its name to AstraZeneca AB, Sodertalje, SWEDEN; and Rhone-Poulenc Rorer Pharmaceuticals, Inc. and Hoechst Aktiengeselschaft, each a party to IPACT-II, changed their names to Aventis Pharma AG, Frankfurt am Main, GERMANY as the result of a corporate merger between their respective holding companies. The membership interest of Fisons plc in IPACT-II also has been transferred to Aventis Pharma AG as a result of this merger.

No other changes have been made in either the membership or planned activity of the group research project. Membership in this group research project remains open, and International Pharmaceutical Aerosol Consortium for Toxicology Testing of HFA-227 (IPACT-II) intends to file additional written notification disclosing all changes in membership.

On February 21, 1991, International Pharmaceutical Aerosol Consortium for Toxicology Testing of HFA-227 (IPACT-II) filed its original notification pursuant to Section 6(a) of the Act. The Department of Justice published a notice in the Federal Register pursuant to Section 6(b) of the Act on April 2, 1991 (56 FR 13489).

The last notification was filed with the Department on March 6, 1997. A notice was published in the Federal Register pursuant to Section 6(b) of the Act on April 3, 1997 (62 FR 15939).

Constance K. Robinson,
Director of Operations, Antitrust Division.

[FR Doc. 00-20892 Filed 8-16-00; 8:45 am]

BILLING CODE 4410-11-M